DEPARTMENT OF TRANSPORTATION

Federal Highway Administration

Environmental Impact Statment: Sanders and Flathead Counties, MT

AGENCY: Federal Highway Administration (FHWA); Department of Transportation.

ACTION: Rescind notice of intent to prepare an environmental impact statement.

SUMMARY: The FHWA is issuing this notice to advise the public that the FHWA is rescinding the Notice of Intent (NOI) to prepare an environmental impact statement (EIS) for proposed improvements to the Thompson River Road (also known as Forest Highway 56), a county road located near Thompson Falls, Montana.

FOR FURTHER INFORMATION CONTACT: Terri Thomas, Environmental Manager, Federal Highway Administration, 610 East Fifth Street, Vancouver, Washington 98661-3801. Telephone: (360) 619-7700. E-mail: Terri.Thomas@fhwa.dot.gov

SUPPLEMENTARY INFORMATION: The FHWA, in cooperation with the U.S. Forest Service (USFS) and the Montana Department of Transportation (MDT), is rescinding the NOI published in the Federal Register (Volume 67, Number 236, page 73004-73005) on December 9, 2002, to prepare an EIS for proposed improvements to the Thompson River Road (Forest Highway 56) near Thompson Falls, Montana. The NOI is being rescinded due to social, environmental, and political issues associated with the proposed improvements. These issues include problems managing access to properties with the elimination of portions of the current dual road system, social and economic impacts on surrounding communities, and the lack of available “take” of the depleted grizzly bear population in the Cabinet-Yaak Ecosystem.

Benefits of the proposed improvements identified through public comments and preliminary studies included potential for improving fish and wildlife habitat within the Thompson River drainage. The proposed improvements included a plan to eliminate portions of the dual road network, which would potentially reduce river sediments and benefit recovering bull trout. An additional goal was to replace the high-speed logging road alignment with a lower-speed curvilinear alignment to reduce mortality of carnivores and other species resulting from vehicle collisions. However, the combined issues of property access, social and economic impacts, and potential impacts on the depleted population of grizzly bear in the Cabinet-Yaak Ecosystem were considered more significant than the combined potential benefits of the project. Therefore, the decision was made to stop the project and remove it from the Transportation Improvement Plan.

Notices of the decision were sent to all cooperating agencies on October 18, 2005. A press release was issued on October 18, 2005. Public involvement meetings were held in Thompson Falls, Montana on October 19, 2005, and Libby, Montana on October 20, 2005, to inform the public of this decision. No significant opposition to stopping the project was received.

Comments or questions regarding this action should be addressed to the FHWA at the address and phone number provided above.

(Catalog of Federal Domestic Assistance Program Number 20.205, Highway Research, Planning and Construction. The regulations implementing Executive Order 12372 regarding intergovernmental consultation on Federal programs and activities apply to this program.)

Dated: Issued on: November 7, 2005.
Ricardo Suarez,
Acting Division Engineer, Western Federal Lands Highway Division, Federal Highway Administration, Vancouver, Washington.

[FR Doc. 05-22911 Filed 11-18-05; 8:45 am]

BILLING CODE 6905-01-P